DEPARTMENT OF COMMERCE

International Trade Administration

[A-549-821]

Polyethylene Retail Carrier Bags from Thailand: Partial Rescission of Antidumping Duty Administrative Review

AGENCY: Import Administration, International Trade Administration, Department of Commerce.

SUMMARY: On September 30, 2008, in response to a request from an interested party, the Department of Commerce published a notice of initiation of the administrative review of the antidumping duty order on polyethylene retail carrier bags from Thailand. The period of review is August 1, 2007, through July 31, 2008. The Department of Commerce is rescinding this review in part.

EFFECTIVE DATE: January 7, 2009.

FOR FURTHER INFORMATION CONTACT: Yang Jin Chun or Richard Rimlinger, AD/CVD Operations, Office 5, Import Administration, International Trade Administration, U.S. Department of Commerce, 14th Street and Constitution Avenue, NW, Washington, DC 20230; telephone: (202) 482-5760 and (202) 482-4477, respectively.

SUPPLEMENTARY INFORMATION:

Background

On September 30, 2008, in response to a request from an interested party, the Department of Commerce (the Department) initiated the administrative review of the antidumping duty order on polyethylene retail carrier bags (PRCBs) from Thailand for the period of review August 1, 2007, through July 31, 2008. See Initiation of Antidumping and Countervailing Duty Administrative Reviews and Requests for Revocation in Part, 73 FR 56795, 56796 (September 30, 2008).

On December 9, 2008, the interested party that requested the review of C.P. Packaging Co., Ltd., C.P. Poly-Industry Co., Ltd., Naraipak Co., Ltd., and Nari Packaging (Thailand) Ltd. withdrew its request. On December 29, 2008, the interested party that requested the review of Poly Plast (Thailand) Co., Ltd., withdrew its request.

Rescission of Review

In accordance with 19 CFR 351.213(d)(i), the Department will rescind an administrative review “if a party that requested the review withdraws the request within 90 days of the date of publication of notice of initiation of the requested review.” We received the letters withdrawing the requests for the review of the companies listed above within the 90-day time limit. The Department received no other requests for review of these companies. Pursuant to 19 CFR 351.213(d)(1), the Department is rescinding the review in part with respect to PRCBs from Thailand produced and/or exported by these companies. The Department will issue appropriate assessment instructions to U.S. Customs and Border Protection 15 days after publication of this notice.

Notification to Importer

This notice serves as a final reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

This notice is published in accordance with section 777(i)(1) of the Tariff Act of 1930, as amended, and 19 CFR 351.213(d)(4).

Dated: December 31, 2008.
Edward C. Yang,
Acting Deputy Assistant Secretary for Antidumping and Countervailing Duty Operations.

[FR Doc. E8-71 Filed 1-6-09; 8:45 am]

BILLING CODE 3510-DS-S